ENVIRONMENTAL PROTECTION AGENCY

40 CFR Part 52

[EPA-R03-OAR-2023-0444; FRL-10461-01-R3]

Air Plan Approval; Delaware; 2022 Amendments to the Delaware's Ambient Air Quality Standards

AGENCY: Environmental Protection Agency (EPA).

ACTION: Proposed rule.

SUMMARY: The Environmental Protection Agency (EPA) is proposing to approve a state implementation plan (SIP) revision submitted by the State of Delaware. This SIP revision consists of Delaware's amendments to its ambient air quality standards for ground level ozone, amendments to citations to the Code of Federal Regulation (CFR) dates for all ambient air quality standards in Delaware's regulations, and Delaware's amendment removing the sulfur dioxide (SO2) 24-hour and annual primary standards that have been revoked by EPA. This action is being taken under the Clean Air Act (CAA).

DATES: Written comments must be received on or before September 16, 2024.

ADDRESSES: Submit your comments, identified by Docket ID No. EPA-R03-OAR-2023-0444 at www.regulations.gov, or via email to talley.david@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit www.epa.gov/dockets/commenting-epa-dockets.

FOR FURTHER INFORMATION CONTACT: Erin Malone, Planning & Implementation Branch (3AD30), Air & Radiation Division, U.S. Environmental Protection Agency, Region III, Four Penn Center, 1600 John F. Kennedy Boulevard, Philadelphia, Pennsylvania 19103. The telephone number is (215) 814-2190. Ms. Malone can also be reached via electronic mail at malone.erin@epa.gov.

SUPPLEMENTARY INFORMATION: On November 15, 2022, the Delaware Department of Natural Resources and Environmental Control (DNREC) submitted to EPA a revision to its SIP that consists of amendments to Title 7 of the Delaware Administrative Code (7 DE Admin Code). Specifically, the amendments are to 7 DE Admin 1103 Ambient Air Quality Standards (DE 1103). DNREC's amendments to DE 1103 aligned the language of that regulation to be consistent with existing Federal regulatory standards. Specifically, DNREC revised DE 1103 to reflect: the most current national ambient air quality standards (NAAQS) for ground level ozone; amendments to update citations in DE 1103 to include the CFR dates in effect at the time DNREC amended DE 1103 for all NAAQS; and amendments to remove the SO2 24-hour and annual primary standards. On May 14, 2024, DNREC submitted a withdrawal letter to remove an update to section 1.6.5 of DE 1103 in Delaware's SIP. Delaware withdrew its revision to Section 1.6.5 because that regulation erroneously cites to an EPA analytical method that was revoked by EPA.

I. Background

The CAA mandates that EPA set NAAQS for criteria pollutants, which are ozone and related photochemical oxidants, carbon monoxide, lead, nitrogen oxides, particulate matter, and sulfur oxides. The CAA also requires EPA to periodically review the relevant scientific information and the standards and revise them, if appropriate, to ensure that the standards provide the requisite protection for public health and the environment. The CAA also requires states to develop a general plan to attain and maintain the standards in all areas of the country and a specific plan to attain the standards for each area designated nonattainment.

The NAAQS for ground-level ozone were updated on October 1, 2015, to strengthen the NAAQS for ground-level ozone to 0.070 parts per million (ppm). See 80 FR 65291.¹ The primary and secondary standards established in 2015 are determined by the fourth-highest daily maximum 8-hour concentration, averaged over three consecutive years. In December 2020, EPA retained the 2015 standards without revision. See 85 FR 87256, December 31, 2020.²

¹ 2015 National Ambient Air Quality Standards for Ozone available at www.federalregister.gov/documents/2015/10/26/2015-26594/national-ambient-air-quality-standards-for-ozone.

² 2020 Review of the Ozone National Ambient Air Quality Standards available at www.federalregister.gov/documents/2020/12/31/2020-28871/review-of-the-ozone-national-ambient-air-quality-standards.

On June 2, 2010, EPA revised the primary SO2 NAAQS based on its review of the air quality criteria for oxides of sulfur and the primary NAAQS for oxides of sulfur as measured by SO2.³ See 75 FR 35520. The 1-hour SO2 standard was set at a level of 0.075 ppm, based on the 3-year average of the annual 99th percentile of 1-hour daily maximum concentrations. EPA also revoked both the existing 24-hour and annual primary SO2 standards.

³ 40 CFR parts 50, 53, and 58 Primary National Ambient Air Quality Standard for Sulfur Dioxide; Final Rule available at www3.epa.gov/ttn/naaqs/standards/so2/fr/20100622.pdf.

II. Summary of SIP Revision and EPA Analysis

Delaware's November 15, 2022 SIP submission consists of: (1) amendments to its ambient air quality standards in DE 1103 to reflect the current NAAQS for ground level ozone; (2) amendments to its regulatory citations to the CFR dates for the EPA sampling and analytical procedures and techniques for the various NAAQS that Delaware incorporates into its regulations, and (3) amendments to remove from DE 1103 the SO2 24-hour and annual primary standards that have been revoked by EPA. Delaware's regulatory amendments aligned DE 1103 with current EPA's NAAQS regulations. By including these revisions to DE 1103 in the Delaware SIP, the SIP will also align with EPA's current NAAQS regulations.

The Delaware SIP's current primary and secondary ozone NAAQS standards are outdated at 0.075 ppm. DNREC's revision to DE 1103 updated the primary and secondary ozone standards in Section 6.0 of DE 1103 to reflect the 2015 Ozone NAAQS of 0.070 ppm. If approved, Delaware's SIP submittal will make the SIP consistent with EPA's current ozone NAAQS.

DNREC has also amended DE 1103 to update its references for the dates for EPA's sampling and analytical procedures and techniques for the various NAAQS, that Delaware incorporates by reference into DE 1103. The dates, for all sections except 1.6.5, will be updated to July 1, 2019, which was the most current version of the CFR as of the time that DNREC revised DE 1103. If approved, Delaware's SIP will incorporate the NAAQS monitoring methodologies as codified in the 2019 CFR, which was the most recent version of the CFR at the time Delaware revised DE 1103. Updating these references will strengthen the Delaware SIP.

Additionally, Delaware removed subsections 4.2 and 4.3 from DE 1103. These subsections had set forth Delaware's SO2 24-hour primary standard and SO2 annual primary standard, which corresponded to the EPA's revoked SO2 24-hour primary standard and SO2 annual primary standard. This amendment to DE 1103 conforms the Delaware SO2 ambient air quality standard with EPA's current Federal regulations. If this revision to DE 1103 is approved into the Delaware SIP, the SIP will align with EPA's current SO2 NAAQS, at 40 CFR 50.17.

III. Proposed Action

EPA is proposing to approve Delaware's submittal of November 15, 2022, consisting of the changes to 7 DE Admin Code 1103, Ambient Air Quality Standards, as described in sections I and II of the preamble. This revision to the Delaware SIP will align the SIP to be consistent with Federal requirements by updating the SIP to be consistent with EPA's 2015 ozone NAAQS; updating the citations in the SIP to the 2019 CFR dates for all NAAQS; and by removing from the SIP the current reference to the revoked the SO2 24-hour and annual primary standards. EPA is soliciting public comments on the proposed rulemaking for the next 30 days. Relevant comments will be considered before taking the final action.

IV. Incorporation by Reference

In this document, EPA is proposing to include in a final EPA rule regulatory text that includes incorporation by reference. In accordance with requirements of 1 CFR 51.5, EPA is proposing to incorporate by reference DE regulation 1103, as effective on July 1, 2019, excluding updates to section 1.6.5, as discussed in sections I and II of the preamble. EPA has made, and will continue to make, these materials generally available through www.regulations.gov and at the EPA Region III Office (please contact the person identified in the FOR FURTHER INFORMATION CONTACT section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the CAA.

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (E.J.) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

DNREC did not evaluate environmental justice considerations as part of its SIP submittal; the CAA and applicable implementing regulations neither prohibit nor require such an evaluation. EPA did not perform an E.J. analysis and did not consider E.J. in this proposed rulemaking. Due to the nature of the proposed action being taken here, this proposed rulemaking is expected to have a neutral to positive impact on the air quality of the affected area.

In addition, this proposed rule, regarding Delaware's amendments to 7 DE Admin. Code 1103, does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Intergovernmental relations, Nitrogen dioxide, Ozone, Reporting and recordkeeping requirements, Sulfur oxides, Volatile organic compounds.

Adam Ortiz,
Regional Administrator, Region III.

[FR Doc. 2024-18160 Filed 8-15-24; 8:45 am]

BILLING CODE 6560-50-P